DEPARTMENT OF HEALTH OF HUMAN SERVICES

Request for Information—Revisions to the PHS Guideline for Reducing Human Immunodeficiency Virus (HIV), Hepatitis B Virus (HBV), and Hepatitis C Virus (HCV) Through Organ Transplantation; Extension of Comment Period

AGENCY: Office of the Assistant Secretary for Health, Office of the Secretary, Department of Health and Human Services.

ACTION: Notice; extension of comment period.

SUMMARY: The Office of the Assistant Secretary for Health published a document in the Federal Register of August 27, 2019, requesting public comment related to revisions to the PHS Guideline for Reducing Human Immunodeficiency Virus (HIV), Hepatitis B Virus (HBV), and Hepatitis C Virus (HCV) Through Organ Transplantation. Due to numerous requests of an extension to the public comment period, this document is announcing an extension.

DATES: To be assured consideration, comments must be received at the address provided below no later than 5:00 p.m. ET on October 10, 2019.

FOR FURTHER INFORMATION CONTACT: Mr. James Berger, (202) 795-7608; ACBTSA@hhs.gov.

Dated: September 17, 2019.
James J. Berger,
Senior Advisor for Blood and Tissue Policy, Office of the Assistant Secretary for Health.

[FR Doc. 2019-20419 Filed 9-19-19; 8:45 am]

BILLING CODE 4150-28-P